DEPARTMENT OF THE INTERIOR

National Park Service

National Register of Historic Places; Notification of Pending Nominations

Nominations for the following properties being considered for listing in the National Register were received by the National Park Service before March 30, 2002. Pursuant to section 60.13 of 36 CFR part 60 written comments concerning the significance of these properties under the National Register criteria for evaluation may be forwarded by United States Postal Service, to the National Register of Historic Places, National Park Service, 1849 C St., NW., NC400, Washington, DC 20240; by all other carriers, National Register of Historic Places, National Park Service, 800 N. Capitol St., NW., Suite 400, Washington DC 20002; or by fax, 202-343-1836 . Written or faxed comments should be submitted by April 25, 2002.

Patrick Andrus,
Acting Keeper of the National Register of Historic Places.

GEORGIA

Cobb County

Bethel AME Church, 4683 Bell St., Acworth, 02000453

Early County

Blakely Court Square Historic District, Bounded by Powell St., Smith Ave., and Church and Bay Sts., Blakely, 02000452

Worth County

Sylvester Commercial Historic District (Boundary Increase), Approx. the jct. of Main St., and Liberty St., Sylvester, 02000454

ILLINOIS

Douglas County

Arcola Carnegie Public Library, (Illinois Carnegie Libraries MPS) 407 E. Main St., Arcola, 02000459

Edgar County

Paris Carnegie Public Library, (Illinois Carnegie Libraries MPS) 207 S. Main St., Paris, 02000464

Ford County

Paxton Carnegie Public Library, (Illinois Carnegie Libraries MPS) 254 S. Market St., Paxton, 02000463

Franklin County

West Frankfort City Hall, 108 N. Emma St., West Frankfort, 02000460

Jackson County

Illinois Central Railroad Passenger Depot, 111 S. Illinois Ave, Carbondale, 02000457

Macon County

Roosevelt Junior High School, 701 W. Grand Ave., Decatur, 02000462

Sangamon County

Route 66 by Carpenter Park, (Route 66 through Illinois MPS) Old Route 66 bet. Cabin Smoke Trail and N bank of the Sangamon R., Springfield, 02000461

Vermilion County

Hoopeston Carnegie Public Library, (Illinois Carnegie Libraries MPS) 110 N. Fourth St., Hoopeston, 02000458

IOWA

Linn County

Perkins, Charles W. and Nellie, House, 1228 3rd Ave., SE, Cedar Rapids, 02000456

Pottawattamie County

100 Block of West Broadway Historic District, W. Broadway, First St., and Fourth St., Council Bluffs, 02000455

LOUISIANA

Orleans Parish

South Lakeview Historic District, Bounded roughly by Navarre St., Gen. Diaz, Weiblen and Hawthorne Pl., New Orleans, 02000465

MISSOURI

Gentry County

Opera Hall Block, 101-03 W. Vermont/101-03 S. Connecticut, King City, 02000472

Jackson County

Faultless Starch Company Building, (Railroad Related Historic Commercial and Industrial Resources in Kansas City, Missouri MPS) 1025 W. 8th St., Kansas City, 02000470

Sewall Paint and Glass Company Building, (Railroad Related Historic Commercial and Industrial Resources in Kansas City, Missouri MPS) 1009-1013 W. 8th St., Kansas City, 02000469

St. Louis Independent city Eastman Kodak Building, 1009 Olive St., St. Louis (Independent City), 02000468

Kulage, Otto, House, 1904 E. College Ave., St. Louis (Independent City), 02000467

Miltenberger, Eugene and Mary A., House, 3218 Osceola St., St. Louis (Independent City), 02000471

West Pine—Laclede Historic District, Roughly bounded by Euclid, Lindell, Sarah and Forest Park Parkway, St. Louis (Independent City), 02000466

NEW YORK

Nassau County

Jericho Friends Meeting House Complex, 6 Old Jericho Turnpike, Jericho, 02000473

NORTH DAKOTA

Stutsman County

Franklin School, 308 Second St., SW., Jamestown, 02000474

PENNSYLVANIA

Bucks County

Willow Mill Complex, 570, 559, and 569 Bustleton Pike, Richboro, 02000476

Lancaster County

Evans, Ann Cunningham, House, 6132 Twenty-eighth Division Hwy., Caernarvon, 02000475

SOUTH CAROLINA

Richland County

Elmwood Park Historic District (Boundary Increase), 2113 Park St., Columbia, 02000477

A request for a MOVE has been made for the following resource:

COLORADO

Grand County

Timber Creek Road Camp Barn (Rocky Mountain National Park MRA), Timber Creek Rd., Estes Park vicinity, 87001134

A request for REMOVAL has been made for the following resources:

IOWA

Black Hawk County

Central Hall, University of Northern Iowa campus, Cedar Falls, 84001204

Davis County

Clay Avenue Bridge (Highway Bridges of Iowa MPS), Clay Ave., and 118th St., over intermittent stream, Drakesville vicinity, 98000795

Winneshiek County

Clarksville Diner, 504 Heivly St., Decorah, 93001356

[FR Doc. 02-8634 Filed 4-9-02; 8:45 am]

BILLING CODE 4310-70-P